DEPARTMENT OF ENERGY

Federal Energy Regulatory Commission

[Docket No. ES00-26-000]

Smarr EMC; Notice of Filing

May 2, 2000.

Take notice that on April 27, 2000, Smarr EMC (Smarr) submitted an application seeking authorization under Section 204 of the Federal Power Act. Smarr seeks authorization to borrow up to $195 million under a loan agreement, or replacements therefor or renewals thereof, with the National Rural Utilities Cooperative Finance Corporation (CFC) over a two-year period.

Smarr also requests a waiver of the Commission's competitive bidding and negotiated placement requirements in 18 CFR 34.2.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before May 22, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-11348 Filed 5-5-00; 8:45 am]

BILLING CODE 6717-01-M